DEPARTMENT OF DEFENSE

Corps of Engineers

[Docket ID: USA-2021-HQ-0007]

Proposed Collection; Comment Request

AGENCY: U.S. Army Corps of Engineers, Department of the Army, Department of Defense (DoD).

ACTION: Information collection notice.

SUMMARY: In compliance with the Paperwork Reduction Act of 1995, the U.S. Army Corps of Engineers announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 28, 2021.

ADDRESSES: You may submit comments, identified by docket number and title, by any of the following methods:

Federal eRulemaking Portal: http://www.regulations.gov. Follow the instructions for submitting comments.

Mail: The Department of Defense (DoD) cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, Charleston District, 69 Hagood Ave, Charleston, SC 29412, ATTN: George Ebai, or call 843-329-8068.

SUPPLEMENTARY INFORMATION:

Title; Associated Form; and OMB Number: Puerto Rico Beach Recreation Value and Benefits Surveys; OMB Control Number 0710-XXXX.

Needs and Uses: The purpose of this study is to employ necessary methods of welfare economics for analyzing the net economic value of beach re-nourishment. U.S. Army Corps of Engineers (USACE) Principle and Guidelines stipulates that when beach visitation exceeds the 750,000 annual visitation threshold, contingent valuation (CV) or travel cost method (TCM) are the required metrics for measuring benefits accruing from recreation. This study will produce empirical estimates of economic value of beach replenishment, focusing on recreation value, how recreation value varies with programmatic attributes, and economic impacts stemming from changes in recreation and recreation value. This study will employ utility-theoretic micro-econometric models, with revealed and stated preference data, and will focus on San Juan, Puerto Rico. This project is being undertaken under the authority for the Puerto Rico Coastal Study and the San Juan Metro Area, Puerto Rico Study is Section 204 of the River and Harbor Act of 1970, Public Law 91-611, which authorizes the Secretary of the Army, acting though the Chief of Engineers, to prepare plans for the development, utilization and conservation of water and related land resources of drainage basins and coastal areas in the Commonwealth of Puerto Rico. The initial project scope also included data collection in Dade County FL, Pinellas County FL, Collier County FL, and Folly Beach SC. The COVID-19 pandemic prohibited the USACE from collecting the necessary information onsite. An alternative data source was found for those counties, but these data do not provide information on Puerto Rico beaches. Thus, the project scope has been modified to assess beach visitation and erosion management preferences for both Puerto Rico residents and U.S. visitors to Puerto Rico.

Affected Public: Individuals and Households.

Annual Burden Hours: 512.5

Number of Respondents: 2050

Responses per Respondent: 1

Annual Responses: 2050

Average Burden per Response: 15 minutes

Frequency: On occasion.

Eligible respondents for this survey are individuals 18 years of age or older that reside in Puerto Rico or have taken a trip to the Caribbean since 2016. Puerto Rico residents comprise the target population for the domestic survey. The majority of international tourist visits to Puerto Rico (in excess of 90%) originate in the United States, so our tourism sample focuses on US households that have taken a trip to the Caribbean since 2016. We are utilizing on online panel of respondents that is managed using scientific sampling properties to provide a rotating panel of respondents that closely resemble the population of interest. If approved, the survey will be administered online to a total of 2,050 beach recreationists, consisting of 1,050 responses from citizens of Puerto Rico and 1,000 from US tourists that travel to Puerto Rico via air or cruise.

Dated: April 26, 2021.
Kayyonne T. Marston,
Alternate OSD Federal Register Liaison Officer, Department of Defense.

[FR Doc. 2021-08986 Filed 4-28-21; 8:45 am]

BILLING CODE 5001-06-P